DEPARTMENT OF TRANSPORTATION

Federal Aviation Administration

14 CFR Part 71

[Docket FAA No. FAA-2008-0180; Airspace Docket No. 08-AAL-6]

Proposed Revocation of Area Navigation Jet Routes J-888R and J-996R; Alaska

AGENCY: Federal Aviation Administration (FAA), DOT.

ACTION: Notice of proposed rulemaking (NPRM); correction.

SUMMARY: This action corrects a notice of proposed rulemaking (NPRM) published in the Federal Register March 12, 2008 (73 FR 13159), Airspace Docket No. 08-AAL-6, FAA Docket No. FAA-2008-0111. In that rule, the FAA docket number is incorrect. The correct FAA docket number should state FAA-2008-0180, instead of FAA-2008-0111. In addition, a typographical error to one Jet Route was made in the title. The title of the NPRM should reference Jet Route J-888R, instead of J-889R. This action corrects those errors.

DATES: Effective Date: 0901 UTC, April 3, 2008.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On March 12, 2008, an NPRM was published in the Federal Register for Airspace Docket No. 08-AAL-6, FAA Docket No. FAA-2008-0111 (73 FR 13159), revoking Area Navigation Jet Routes J-889R and J-996R in Alaska. Subsequent to publication, it was found that the FAA docket number was incorrect; the correct number is FAA-2008-0180. In addition, the reference to one Area Navigation Jet Route was incorrectly stated in the title of the NPRM. The correct Jet Route should have stated J-888R, instead of J-889R. This action corrects those errors.

Correction to Final Rule

Accordingly, pursuant to the authority delegated to me, the FAA docket number and the title of the NPRM as published in the Federal Register on March 12, 2008 (73 FR 13159), Airspace Docket No. 08-AAL-6, FAA Docket No. FAA-2008-0111, and incorporated by reference in 14 CFR 71.1, is corrected as follows:

§ 71.1 [Amended]

On page 13159, correct the FAA docket number and the title to read as follows:

* * * * *

Docket No. FAA-2008-0180

Proposed Revocation of Area Navigation Jet Routes J-888R and J-996R; Alaska

* * * * *

Issued in Washington, DC, on March 27, 2008.
Stephen L. Rohring,
Acting Manager, Airspace and Rules Group.

[FR Doc. E8-6935 Filed 4-2-08; 8:45 am]

BILLING CODE 4910-13-P